DEPARTMENT OF HEALTH AND HUMAN SERVICES

Substance Abuse and Mental Health Services Administration

Current List of HHS-Certified Laboratories and Instrumented Initial Testing Facilities Which Meet Minimum Standards To Engage in Urine Drug Testing for Federal Agencies

Correction

In notice document 2019-21176, beginning on page 52117 in the issue of Tuesday, October 1, 2019, make the following corrections:

1. On page 52117, in the third column, on the second line, “Quiver Road, Leone, KS” should read “Quivira Road, Lenexa, KS”.

2. On the same page, in the same column, on the eighth line, “Desert Ox” should read “Desert Tox”.

3. On the same page, in the same column, on the eleventh line, “Drug,Scan” should read “DrugScan”.

[FR Doc. C1-2019-21176 Filed 10-16-19; 8:45 am]

BILLING CODE 1505-01-D